DEPARTMENT OF VETERANS AFFAIRS

Advisory Committee on Prosthetics and Special-Disabilities Programs, Notice of Meeting

The Department of Veterans Affairs (VA) gives notice under the Federal Advisory Committee Act, 5 U.S.C. ch. 10, that a virtual meeting of the Federal Advisory Committee on Prosthetics and Special-Disabilities Programs will be held on October 21-22, 2024. The meeting sessions will begin at 8:30 a.m. Eastern Standard Time (EST) and end at 3:00 p.m. EST on both days. The meeting sessions are open to the public.

The purpose of the Committee is to advise the Secretary of Veterans Affairs on VA's prosthetics programs designed to provide state-of-the-art prosthetics and the associated rehabilitation research, development, and evaluation of such technology. The Committee also provides advice to the Secretary on special-disabilities programs, which are defined as any program administered by the Secretary to serve Veterans with spinal cord injuries, blindness or visual impairments, loss of extremities or loss of function, deafness or hearing impairment, and other serious incapacities in terms of daily life functions.

On Monday October 21, 2024, the Committee will convene open (virtual) sessions with introductory remarks from the Committee Chair; the Executive Director for Rehabilitation and Prosthetic Services; Department Senior Leaders and a presentation from the Advisory Committee Management Office. The Committee will hear presentations from various Veterans Health Administration National Program Offices on National Veterans Sports Programs and Special Events, Extended Care for Aging Populations, Integration of Sensory Health into Whole Health, and VA Care Across the Continuum from Amputation Prevention to Life-Long Care.

On Tuesday October 22, 2024, the Committee will hear presentations on Collaborative Pain Management for Veterans with Disabilities, creative arts, adaptive sports programs, and blind and low vision Veterans. An update will be presented from Workforce Management and Consulting on recruitment and retention of rehabilitation and prosthetic professions.

The public is invited to address the Committee during the public comment period, which will be open for 30 minutes from 1:30 p.m. to 2:00 p.m. EST on Tuesday, October 22, 2024. In the interest of time, each speaker will be held to a 3-minute time limit. Members of the public who are unable to attend virtually may submit one-page summaries of their written statements for Committee review. Written comments may be received no later than October 14, 2024, for Committee discussion and inclusion in the official meeting record. Please send these comments to Ms. Linda Picon, M.C.D., Designated Federal Officer, Rehabilitation and Prosthetic Services, Veterans Health Administration at Linda.Picon@va.gov or 202-870-1155.

Members of the public seeking additional information or those who wish to obtain a copy of the agenda should contact Linda Picon. Members of the public may attend the meeting by joining the WebEx link below:

https://veteransaffairs.webex.com/veteransaffairs/j.php?MTID=m069d89ed3bd8134bcc42d0655c113194

Audio Only 404.397.1596/Access Code 2820 175 8989

Dated: October 3, 2024.
LaTonya L. Small,
Federal Advisory Committee Management Officer.

[FR Doc. 2024-23269 Filed 10-8-24; 8:45 am]

BILLING CODE 8320-01-P